COMMISSION ON CIVIL RIGHTS

Agenda and Notice of Public Meeting of the Virginia Advisory Committee and a Subcommittee of the District of Columbia Advisory Committee

Notice is hereby given, pursuant to the provisions of the rules and regulations of the U.S. Commission on Civil Rights (Commission), and the Federal Advisory Committee Act (FACA) that a joint project planning meeting of the Virginia Advisory Committee and a subcommittee of the District of Columbia Advisory Committee will convene on Thursday, March 5, 2009, from 3 p.m. to 4 p.m. The purpose of the meeting is to plan future joint project activities.

The meeting will be conducted by conference call and is available to the public through the following call-in number: (800) 516-9896, access code: 98105. Any interested member of the public may call this number and listen to the meeting. Callers can expect to incur charges for calls over wireless lines, and the Commission will not refund any incurred charges. Callers will incur no charge for calls using the call-in number over land-line connections. Persons with hearing impairments may also follow the proceedings by first calling the Federal Relay Service at 1-800-977-8339 and providing the Service with the conference call number and the access code.

To ensure that the Commission secures an appropriate number of lines for the public, persons are asked to register by contacting Alfreda Greene, Secretary of the Eastern Regional Office, office number (202) 376-7533, TTY (202) 376-8116, by 4 p.m., Tuesday, March 3, 2009.

Members of the public are entitled to submit written comments. The address is Eastern Regional Office, 624 9th St., NW., Washington, DC 20425. Persons wishing to submit their comments, or who desire additional information should contact Alfreda Greene, Secretary, at 202-376-7533 or by e-mail to: agreene@usccr.gov.

Records generated from this meeting may be inspected and reproduced at the Eastern Regional Office, as they become available, both before and after the meeting. Persons interested in the work of these advisory committees are advised to go to the Commission's Web site, http://www.usccr.gov, or to contact the Eastern Regional Office at the above e-mail or street address.

The meeting will be conducted pursuant to the rules and regulations of the Commission and FACA.

Christopher Byrnes,
Chief, Regional Programs Coordination Unit.

[FR Doc. E9-3516 Filed 2-18-09; 8:45 am]

BILLING CODE 6335-01-P